DEPARTMENT OF TRANSPORTATION

Federal Aviation Administration

14 CFR Part 39

[Docket No. FAA-2009-1088; Directorate Identifier 2008-SW-76-AD]

RIN 2120-AA64

Airworthiness Directives; Sikorsky Aircraft Corporation Helicopters

AGENCY: Federal Aviation Administration (FAA), DOT.

ACTION: Supplemental notice of proposed rulemaking (NPRM); reopening of comment period.

SUMMARY: We are revising an earlier proposed airworthiness directive (AD) for the Sikorsky Aircraft Corporation (Sikorsky) Model S-92A helicopter, which proposed revising the Rotorcraft Flight Manual (RFM), Operating Limitations section, to prohibit Class D external load operations, including human external cargo (HEC), because this model helicopter was not certificated to one-engine inoperative performance standards for carrying Class D external loads. This Supplemental NPRM is prompted by a recent design approval, which allows Class D external load operations if the appropriate operating limitations are included in the RFM. This proposed AD is intended to require appropriate operating limitations to allow operators to perform Class D external load-combination operations, including HEC, in this model helicopter that now meets the Category A performance standard.

DATES: We must receive comments on this proposed AD by November 13, 2012.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket: You may examine the AD docket on the Internet at http://www.regulations.gov or in person at the Docket Operations Office between 9 a.m. and 5 p.m., Monday through Friday, except Federal holidays. The AD docket contains this proposed AD, the economic evaluation, any comments received and other information. The street address for the Docket Operations Office (telephone 800-647-5527) is in the ADDRESSES section. Comments will be available in the AD docket shortly after receipt.

For service information identified in this proposed AD, contact Sikorsky Aircraft Corporation, Attn: Manager, Commercial Technical Support, mailstop S581A, 6900 Main Street, Stratford, CT, telephone (203) 383-4866, email address tsslibrary@sikorsky.com, or at http://www.sikorsky.com. You may review a copy of the service information at the FAA, Office of the Regional Counsel, Southwest Region, 2601 Meacham Blvd., Room 663, Fort Worth, Texas 76137.

FOR FURTHER INFORMATION CONTACT: John Coffey, Flight Test Engineer, Boston Aircraft Certification Office, 12 New England Executive Park, Burlington, MA 01803; telephone (781) 238-7173; email: john.coffey@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

On October 23, 2009, we issued a proposal to amend 14 CFR part 39 to include an AD that would apply to Sikorsky Model S-92 helicopters. That NPRM was published in the Federal Register on December 10, 2009 (74 FR 65496). The NPRM proposed revising the RFM SA S92A-RFM-003, Part 1, Section 1, Operating Limitations, Types of Operation, by removing the statement “RESCUE HOIST: category `A' only External load operations with Class `D' external loads.” The NPRM proposed replacing that statement with “HOIST: Class D external loads PROHIBITED.”

That NPRM was prompted by a mistake in the RFM, which allowed “Class D” rotorcraft load combinations for HEC operations for this model helicopter. The Model S-92A RFM did not include the required one-engine inoperative (OEI) hover performance and procedures.

Also, the NPRM proposed replacing the words “RESCUE HOIST” in the RFM with “HOIST.”

Actions Since Previous NPRM Was Issued

Since issuing the previous NPRM, a recent design approval for HEC operations has been issued for this helicopter. Therefore, we no longer need to prohibit rotorcraft load combinations for HEC operations for this model helicopter, but rather we need to correct the RFM to apply the appropriate limitations.

Because this change expands the scope of the originally proposed rule, the FAA will reopen the comment period to provide additional opportunity for public comment.

FAA's Determination

We are proposing this AD because we evaluated all the relevant information and determined the unsafe condition described previously is likely to exist or develop in other products of the same type design.

Proposed AD Requirements

This proposed AD would require, within 90 days, revising the Operating Limitations section of the RFM S92A-RFM-003, Part 1, Section 1, by inserting a copy of this AD into the RFM or by making pen and ink changes to several sections of the RFM Operating Limitations. The changes required by this AD are complied with if RFM S92A-RFM-003, Revision 12, has been incorporated into the RFM.

Costs of Compliance

We estimate that this proposed AD would affect 65 helicopters in the U.S. registry. The costs for inserting a correction to the RFM are expected to be minimal.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Sikorsky Aircraft Corporation Helicopters: Docket No. FAA-2009-1088; Directorate Identifier 2008-SW-76-AD.

(a) Applicability

This AD applies to Sikorsky Aircraft Corporation Model S-92A helicopters, certificated in any category.

(b) Unsafe Condition

This AD defines the unsafe condition as an inaccurate Rotorcraft Flight Manual (RFM) provision, which was approved without appropriate limitations for this model helicopter for carrying Class D external rotorcraft-load combinations, including Human External Cargo (HEC), when this model helicopter was not certificated to Category A one-engine inoperative (OEI) performance standards, including fly away capabilities after an engine failure, which is required for carrying HEC.

(c) Compliance

You are responsible for performing each action required by this AD within the specified compliance time unless it has already been accomplished prior to that time.

(d) Required Actions

Within 90 days, revise the Operating Limitations section of Rotorcraft Flight Manual (RFM) S92A-RFM-003, Part 1, Section 1, by inserting a copy of this AD into the RFM or by making pen and ink changes, as follows:

Note to paragraph (d): The changes required by this AD are complied with if RFM S92A-RFM-003, Revision 12, has been incorporated into the RFM.

(1) In the Types of Operation section, beneath Hoist, add the following:

“The hoist equipment certification installation approval does not constitute approval to conduct hoist operations. Operational approval for hoist operations must be granted by the Federal Aviation Administration. No cabin seats may be installed in front of station 317 when conducting Human External Cargo hoist operations, which requires Category A performance capabilities.”

(2) In the Flight Limits section, add the following:

“HOIST When conducting Human External Cargo operations, which require category `A' performance capabilities, the minimum hover height is 20 feet AGL and the maximum hover height is 80 feet AGL.

HOIST The collective axis must remain uncoupled when conducting Human External Cargo, which requires category `A' performance capabilities, for the period of time that the person is off the ground or water and not in the aircraft. This can be accomplished by either uncoupling the collective axis or by the pilot depressing the collective trim switch during the pertinent portion of the maneuver.”

(3) In the Weight Limits section:

(i) Remove this note: “NOTE: The 150 pound hoist decrement does not preclude Cat A operations at a gross weight of 26,500 pounds with a hoist installed. If conditions permit, the pilot may go to the right of the 26,500 line on figure 1-2 to determine a maximum gross weight up to 26,650 and then subtract 150 pounds.”

(ii) Add this paragraph and figure: “HOIST Maximum gross weight for Human External Cargo, which requires category `A' performance capabilities, is limited to the gross weight determined in accordance with the following Figure 1-2A to Paragraph (d) of this AD for your altitude and temperature with the air-conditioner, anti-ice, and bleed air turned off.”

BILLING CODE 4910-13-P

(e) Alternative Methods of Compliance (AMOCs)

(1) The Manager, Safety Management Group, FAA, may approve AMOCs for this AD. Send your proposal to: John Coffey, Flight Test Engineer, Boston Aircraft Certification Office, 12 New England Executive Park, Burlington, MA 01803; telephone (781) 238-7173, fax (781) 238-7170; email john.coffey@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(f) Additional Information

For service information identified in this AD, contact Sikorsky Aircraft Corporation, Attn: Manager, Commercial Technical Support, mailstop S581A, 6900 Main Street, Stratford, CT, telephone (203) 383-4866, email address tsslibrary@sikorsky.com, or at http://www.sikorsky.com. You may review a copy of this information at the FAA, Office of the Regional Counsel, Southwest Region, 2601 Meacham Blvd., Room 663, Fort Worth, Texas 76137.

(g) Subject

Joint Aircraft Service Component (JASC) Code: 2510: Flight Compartment Equipment.

Issued in Fort Worth, Texas, on September 5, 2012.
Lance T. Gant,
Acting Manager, Rotorcraft Directorate, Aircraft Certification Service.

[FR Doc. 2012-22525 Filed 9-12-12; 8:45 am]

BILLING CODE 4910-13-C